DEPARTMENT OF ENERGY

Federal Energy Regulatory Commission

[Project No. 11953-000]

Symbiotics, LLC.; Notice Granting Late Intervention

December 18, 2001.

On November 26, 2001, the Commission issued a notice of the preliminary permit application filed by the Symbiotics, LLC. for the Wickiup Dam Project No. 11953, located on the Deschutes River, in Deschutes County, Florida. The notice established August 13, 2001, as the deadline for filing motions to intervene in the proceeding.

On November 26, 2001, a motion to intervene was filed late by American Rivers and WaterWatch of Oregon. Granting the late motion to intervene will not unduly delay or disrupt the proceeding or prejudice other parties to it. Therefore, pursuant to Rule 214,¹ the late motion to intervene filed in this proceeding by American Rivers and WaterWatch of Oregon is granted, subject to the Commission's rules and regulations.

¹ 18 CFR 385.214 (2001).

Linwood A. Watson, Jr.,
Acting Secretary.

[FR Doc. 01-31592 Filed 12-21-01; 8:45 am]

BILLING CODE 6717-01-P